DEPARTMENT OF ENERGY

Electricity Advisory Committee Meeting

AGENCY: Office of Electricity Delivery and Energy Reliability, Department of Energy.

ACTION: Notice of open meeting.

SUMMARY: This notice announces a meeting of the reestablished Electricity Advisory Committee (EAC). The Federal Advisory Committee Act (Pub. L. 92-463, 86 Stat. 770) requires that public notice of these meetings be announced in the Federal Register.

DATES: Thursday, March 10, 2011; 8:30 a.m.-4:30 p.m.

ADDRESSES: National Rural Electric Cooperative Association, 4301 Wilson Boulevard, Arlington, Virginia 22203.

FOR FURTHER INFORMATION CONTACT: David Meyer, Office of Electricity Delivery and Energy Reliability, U.S. Department of Energy, Forrestal Building, Room 8G-024, 1000 Independence Avenue, SW., Washington, DC 20585; Telephone: (202) 586-8118 or E-mail: David.Meyer@hq.doe.gov.

SUPPLEMENTARY INFORMATION: Purpose of the Committee: The Electricity Advisory Committee (EAC) was re-established in August 2010 to provide advice to the U.S. Department of Energy in implementing the Energy Policy Act of 2005, the Energy Independence and Security Act of 2007, and related statutes, as well as modernizing the nation's electricity delivery infrastructure.

Tentative Agenda: The meeting of the Electricity Advisory Committee is expected to include discussion of the activities of the Energy Storage Technologies Subcommittee, the Smart Grid Subcommittee, the Environmental Regulations and Reliability Working Group, and a discussion of potential study topics for consideration by the EAC, as requested by the DOE Office of Electricity Delivery and Energy Reliability.

A draft agenda of the EAC meeting is available on the Committee Web site at: http://www.oe.energy.gov/eac.htm. The meeting agenda may change to accommodate Committee business. For EAC agenda updates, see the Committee Web site.

Public Participation: The EAC welcomes the attendance of the public at its advisory committee meetings. Individuals who wish to offer public comments at the EAC meeting may do so on the day of the meeting, Thursday, March 10, 2011. Approximately one-half hour will be reserved for public comments. Time allotted per speaker will depend on the number who wish to speak but is not expected to exceed three minutes. Anyone who is not able to attend the meeting, or for whom the allotted public comments time is insufficient to address pertinent issues with the EAC, is invited to send a written statement to Mr. David Meyer.

You may submit comments, identified by “Electricity Advisory Committee Open Meeting”, by any of the following methods:

• Mail/Hand Delivery/Courier: David Meyer, Office of Electricity Delivery and Energy Reliability, U.S. Department of Energy, Forrestal Building, Room 8G-024, 1000 Independence Avenue, SW., Washington, DC 20585.

• E-mail: David.Meyer@hq.doe.gov. Include “Electricity Advisory Committee Open Meeting” in the subject line of the message.

• Federal eRulemaking Portal: http://www.regulations.gov. Follow the instructions for submitting comments.

Instructions: All submissions received must include the agency name and identifier. All comments received will be posted without change to http://www.oe.energy.gov/eac.htm, including any personal information provided.

Docket: For access to the docket, to read background documents or comments received, go to http://www.oe.energy.gov/eac.htm.

The following electronic file formats are acceptable: Microsoft Word (.doc), Corel Word Perfect (.wpd), Adobe Acrobat (.pdf), Rich Text Format (.rtf), plain text (.txt), Microsoft Excel (.xls), and Microsoft PowerPoint (.ppt). If you submit information that you believe to be exempt by law from public disclosure, you must submit one complete copy, as well as one copy from which the information claimed to be exempt by law from public disclosure has been deleted. You must also explain the reasons why you believe the deleted information is exempt from disclosure. DOE is responsible for the final determination concerning disclosure or nondisclosure of the information and for treating it in accordance with the DOE's Freedom of Information regulations (10 CFR 1004.11).

Note: Delivery of the U.S. Postal Service mail to DOE continues to be delayed by several weeks due to security screening. DOE therefore encourages those wishing to comment to submit comments electronically by e-mail. If comments are submitted by regular mail, the Department requests that they be accompanied by a CD or diskette containing electronic files of the submission.

Minutes: The minutes of the EAC meeting will be posted on the Committee Web site at http://www.oe.energy.gov/eac.htm or by contacting Mr. David Meyer at the address above.

Issued at Washington, DC on February 18, 2011.
LaTanya Butler,
Acting Deputy Committee Management Officer.

[FR Doc. 2011-4242 Filed 2-24-11; 8:45 am]

BILLING CODE 6405-01-P